DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 17, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Export Sales of U.S. Agricultural Commodities.

OMB Control Number: 0551-0007.

Summary of Collection: The Export Sales of U.S. Agricultural Commodities is authorized by § 602 of the Agricultural Trade Act of 1978, as amended (7 U.S.C. 5712). The Export Sales of U.S. Agricultural Commodities requires the reporting of information pertaining to contracts for export sale of certain specified agricultural commodities that may be designated by the Secretary of Agriculture. U.S. exporters are required to report information on: (1) the quantity of a reportable commodity to be sold to a foreign buyer; (2) the country of destination; and (3) the marketing year of shipment. Data reported is aggregated and published in compilation form to protect business confidential information submitted.

The Export Sales Reporting and Maintenance System (ESRMS) was created after the large, unexpected purchase of U.S. wheat and corn by the Soviet Union in 1972. U.S. exporters are required to regularly report specific information on commodity shipments using ESRMS. The information reported is maintained by the exporters during the normal course of conducting business and is not an additional recordkeeping requirement for respondents.

Need and Use of the Information: The information collected under the Export Sales of U.S. Agricultural Commodities provides commodity market participants with information about commodity export commitments, and is one means by which USDA seeks to insure transparency, fairness, and soundness in commodity marketing. The information will be collected using FAS forms 97, 98,99, and 100. If the information were collected less frequently or not at all, the Department would not be in compliance with the statutes and not fulfilling the objectives of the export sales reporting program.

Description of Respondents: All exporters of wheat and wheat flour, feed grains, oilseeds, cotton, rice, cattle hides and skins, beef, pork, and any products thereof, and other commodities that the Secretary may designate as produced in the United States.

Number of Respondents: 414.

Frequency of Responses: Reporting: Other: Varies.

Total Burden Hours: 62,355.

Ruth Brown,
Departmental Information Collection Clearance Officer.

[FR Doc. 2023-22916 Filed 10-17-23; 8:45 am]

BILLING CODE 3410-10-P